DEPARTMENT OF THE TREASURY

Office of Foreign Assets Control

31 CFR Part 588

Publication of Western Balkans Stabilization Regulations Web General Licenses 3A, 4, and 5

AGENCY: Office of Foreign Assets Control, Treasury.

ACTION: Publication of Web General Licenses.

SUMMARY: The Department of the Treasury's Office of Foreign Assets Control (OFAC) is publishing three general licenses (GLs) issued pursuant to the Western Balkans Stabilization Regulations: GLs 3A, 4, and 5, each of which was previously made available on OFAC's website.

DATES: GLs 3A, 4, and 5 were issued on June 18, 2024. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

On June 18, 2024, OFAC issued GLs 3A, 4, and 5 to authorize certain transactions otherwise prohibited by the Western Balkans Stabilization Regulations, 31 CFR part 588. GL 3A superseded GL 3, which was issued on November 16, 2023. Each GL was made available on OFAC's website (www.treas.gov/ofac) when it was issued. The text of these GLs is provided below.

OFFICE OF FOREIGN ASSETS CONTROL

Western Balkans Stabilization Regulations

31 CFR Part 588

GENERAL LICENSE NO. 3A

Authorizing Certain Transactions Related to Agricultural Commodities, Medicine, Medical Devices, Replacement Parts and Components, Software Updates, or Medical Prevention, Diagnosis, or Treatment, or Clinical Trials Involving Certain Blocked Entities

(a) Except as provided in paragraph (d) of this general license, all transactions prohibited by the Western Balkans Stabilization Regulations, 31 CFR part 588 (WBSR), involving one or more of the blocked entities described in paragraph (b) related to the following are authorized: (1) the production, manufacturing, sale, transport, or provision of agricultural commodities, agricultural equipment, medicine, medical devices, replacement parts and components for medical devices, or software updates for medical devices; (2) the prevention, diagnosis, or treatment of any disease or medical condition; or (3) the conduct of clinical trials or other medical research.

(b) The authorization in paragraph (a) of this general license applies to the following blocked entities:

(1) Orka Holding AD;

(2) Infinity International Group d.o.o. Banja Luka;

(3) Sirius 2010 d.o.o. Banja Luka; or

(4) Any entity in which one or more of the above persons own, directly or indirectly, individually or in the aggregate, a 50 percent or greater interest.

(c) For the purposes of this general license, agricultural commodities, medicine, and medical devices are defined as follows:

(1) Agricultural commodities. Agricultural commodities are products that fall within the term “agricultural commodity” as defined in section 102 of the Agricultural Trade Act of 1978 (7 U.S.C. 5602) and are intended for use as:

(i) Food for humans (including raw, processed, and packaged foods; live animals; vitamins and minerals; food additives or supplements; and bottled drinking water) or animals (including animal feeds);

(ii) Seeds for food crops;

(iii) Fertilizers or organic fertilizers; or

(iv) Reproductive materials (such as live animals, fertilized eggs, embryos, and semen) for the production of food animals.

(2) Medicine. Medicine is an item that falls within the definition of the term “drug” in section 201 of the Federal Food, Drug, and Cosmetic Act (21 U.S.C. 321).

(3) Medical devices. A medical device is an item that falls within the definition of “device” in section 201 of the Federal Food, Drug, and Cosmetic Act (21 U.S.C. 321).

(d) This general license does not authorize any transactions otherwise prohibited by the WBSR, including transactions involving any person blocked pursuant to the WBSR other than the blocked persons described in paragraph (b) of this general license, unless separately authorized.

(e) Effective June 18, 2024, General License No. 3, dated November 16, 2023, is replaced and superseded in its entirety by this General License No. 3A.

Note to General License No. 3A. Nothing in this general license relieves any person from compliance with any other Federal laws or requirements of other Federal agencies.

Bradley T. Smith,

Director, Office of Foreign Assets Control.

Dated: June 18, 2024.

OFFICE OF FOREIGN ASSETS CONTROL

Western Balkans Stabilization Regulations

31 CFR Part 588

GENERAL LICENSE NO. 4

Authorizing the Wind Down of Transactions Involving Certain Entities Blocked on June 18, 2024

(a) Except as provided in paragraph (b) of this general license, all transactions prohibited by the Western Balkans Stabilization Regulations, 31 CFR part 588 (WBSR), that are ordinarily incident and necessary to the wind down of any transaction involving one or more of the following blocked entities are authorized through 12:01 a.m. eastern daylight time, August 17, 2024, provided that any payment to a blocked person is made into a blocked account in accordance with the WBSR:

(1) Infinity International Group d.o.o. Banja Luka;

(2) Sirius 2010 d.o.o. Banja Luka; or

(3) Any entity in which one or more of the above persons own, directly or indirectly, individually or in the aggregate, a 50 percent or greater interest.

(b) This general license does not authorize any transactions otherwise prohibited by the WBSR, including transactions involving any person blocked pursuant to the WBSR other than the blocked persons described in paragraph (a) of this general license, unless separately authorized.

Bradley T. Smith,

Director, Office of Foreign Assets Control.

Dated: June 18, 2024.

OFFICE OF FOREIGN ASSETS CONTROL

Western Balkans Stabilization Regulations

31 CFR Part 588

GENERAL LICENSE NO. 5

Authorizing Certain Transactions Involving Pumps Manufactured or Distributed by Kaldera Company EL PGP d.o.o. for the Treatment or Distribution of Drinking Water

(a) Except as provided in paragraph (b) of this general license, all transactions prohibited by the Western Balkans Stabilization Regulations, 31 CFR part 588 (WBSR), that are ordinarily incident and necessary to the manufacture, distribution, operation, installation, or maintenance and repair of pumps manufactured or distributed by Kaldera Company EL PGP d.o.o., or any entity in which Kaldera Company EL PGP d.o.o. owns, directly or indirectly, a 50 percent or greater interest, that are currently or are intended solely for use in the treatment or distribution of drinking water, are authorized.

(b) This general license does not authorize any transactions otherwise prohibited by the WBSR, including transactions involving any person blocked pursuant to the WBSR other than the blocked persons described in paragraph (a) of this general license, unless separately authorized.

Bradley T. Smith,

Director, Office of Foreign Assets Control.

Dated: June 18, 2024.

Lisa M. Palluconi,
Acting Director, Office of Foreign Assets Control.

[FR Doc. 2024-24524 Filed 10-22-24; 8:45 am]

BILLING CODE 4810-AL-P